DEPARTMENT OF ENERGY

Federal Energy Regulatory Commission

Combined Notice of Filings #

Take notice that the Commission received the following electric corporate filings:

Docket Numbers: EC11-49-000.

Applicants: Ameren Energy Generating Company.

Description: Application of Ameren Energy Generating Company to seek approval of the sale of the Columbia Energy Center to the City of Columbia, Missouri.

Filed Date: 03/11/2011.

Accession Number: 20110311-5159.

Comment Date: 5 p.m. Eastern Time on Friday, April 1, 2011.

Take notice that the Commission received the following exempt wholesale generator filings:

Docket Numbers: EG11-69-000.

Applicants: Rockland Wind Farm LLC.

Description: Rockland Wind Farm LLC's Notice of Self-Certification of Exempt Wholesale Generator Status.

Filed Date: 03/10/2011.

Accession Number: 20110310-5109.

Comment Date: 5 p.m. Eastern Time on Thursday, March 31, 2011.

Take notice that the Commission received the following electric rate filings:

Docket Numbers: ER96-496-019; ER99-3658-005.

Applicants: Northeast Utilities Service Company, Select Energy, Inc.

Description: Supplemental Information of Northeast Utilities Service Company and Select Energy, Inc.

Filed Date: 03/11/2011.

Accession Number: 20110311-5127.

Comment Date: 5 p.m. Eastern Time on Friday, April 1, 2011.

Docket Numbers: ER10-1809-002.

Applicants: RED-Scotia, LLC.

Description: Amendment to Notification of Change in Facts of RED-Scotia, LLC.

Filed Date: 03/10/2011.

Accession Number: 20110310-5052.

Comment Date: 5 p.m. Eastern Time on Thursday, March 31, 2011.

Docket Numbers: ER10-2019-002; ER10-2018-001; ER11-2495-000; ER10-2010-001; ER10-1959-001; ER10-2007-001; ER10-2013-001; ER10-2015-001; ER10-2017-001; ER10-3280-001; ER10-2012-001; ER10-2021-001; ER10-2011-001; ER10-2014-001; ER10-2024-001; ER11-2495-000.

Applicants: PPL New Jersey Solar, LLC, PPL Electric Utilities Corporation, Lower Mount Bethel Energy, LLC, PPL Brunner Island, LLC, PPL Holtwood, LLC, PPL Martins Creek, LLC, PPL Montour, LLC, PPL Susquehanna, LLC, PPL University Park, LLC, PPL EnergyPlus, LLC, PPL Great Works, LLC, PPL Maine, LLC, PPL Wallingford Energy LLC, PPL New Jersey Biogas, LLC, PPL Renewable Energy, LLC.

Description: Amendment to Triennial Market-Based Rate Update for the Northeast Region of the PPL Northeast Companies.

Filed Date: 03/11/2011.

Accession Number: 20110311-5158.

Comment Date: 5 p.m. Eastern Time on Friday, April 1, 2011.

Docket Numbers: ER10-2176-001; ER10-2178-001; ER10-2184-001; ER10-2172-001.

Applicants: Constellation Energy Commodities Group, R.E. Ginna Nuclear Power Plant, LLC, AES NewEnergy, Inc., Baltimore Gas and Electric Company, Constellation Power Source Generation LLC, Nine Mile Point Nuclear Station, LLC, Safe Harbor Water Power Corporation, Calvert Cliffs Nuclear Power Plant LLC, CER Generation, LLC, Constellation Energy Commodities Group M, Handsome Lake Energy, LLC, Constellation Mystic Power, LLC, Criterion Power Partners, LLC.

Description: Constellation Amendment to NE Triennial.

Filed Date: 03/09/2011.

Accession Number: 20110309-5056.

Comment Date: 5 p.m. Eastern Time on Wednesday, March 30, 2011.

Docket Numbers: ER10-2812-001.

Applicants: GenConn Devon LLC.

Description: GenConn Devon LLC submits tariff filing per 35: GenCon Devon FERC MBR Tariff to be effective 9/21/2010.

Filed Date: 03/10/2011.

Accession Number: 20110310-5045.

Comment Date: 5 p.m. Eastern Time on Thursday, March 31, 2011.

Docket Numbers: ER10-3169-001.

Applicants: Michigan Power Limited Partnership.

Description: Michigan Power Limited Partnership submits tariff filing per 35: Revisions to Michigan Power Limited Partnership Baseline MBR Tariff to be effective 9/29/2010.

Filed Date: 03/11/2011.

Accession Number: 20110311-5132.

Comment Date: 5 p.m. Eastern Time on Friday, April 1, 2011.

Docket Numbers: ER11-2509-002.

Applicants: Energetix, Inc.

Description: Energetix, Inc. submits tariff filing per 35: Energetix Supplement to December 2010 Tariff Filing to be effective 3/11/2011.

Filed Date: 03/10/2011.

Accession Number: 20110310-5079.

Comment Date: 5 p.m. Eastern Time on Thursday, March 31, 2011.

Docket Numbers: ER11-2563-002.

Applicants: New York State Electric & Gas Corporation.

Description: New York State Electric & Gas Corporation submits tariff filing per 35: NYSEG Supplement to December 2010 Tariff Filing to be effective 3/11/2011.

Filed Date: 03/10/2011.

Accession Number: 20110310-5070.

Comment Date: 5 p.m. Eastern Time on Thursday, March 31, 2011.

Docket Numbers: ER11-2564-002.

Applicants: Rochester Gas and Electric Corporation.

Description: Rochester Gas and Electric Corporation submits tariff filing per 35: RGE Supplement to December 2010 Tariff Filing to be effective 3/11/2011.

Filed Date: 03/10/2011.

Accession Number: 20110310-5076.

Comment Date: 5 p.m. Eastern Time on Thursday, March 31, 2011.

Docket Numbers: ER11-2914-001.

Applicants: Midwest Independent Transmission System Operator, Inc.

Description: Midwest Independent Transmission System Operator, Inc. submits tariff filing per 35.17(b): NSP-GRE-Lyon Amendment to be effective 2/19/2011.

Filed Date: 03/10/2011.

Accession Number: 20110310-5067.

Comment Date: 5 p.m. Eastern Time on Thursday, March 31, 2011.

Docket Numbers: ER11-2915-001.

Applicants: Midwest Independent Transmission System Operator, Inc.

Description: Midwest Independent Transmission System Operator, Inc. submits tariff filing per 35.17(b): GRE-NSP-Pilot Knob Amendment to be effective 2/19/2011.

Filed Date: 03/10/2011.

Accession Number: 20110310-5077.

Comment Date: 5 p.m. Eastern Time on Thursday, March 31, 2011.

Docket Numbers: ER11-2999-001.

Applicants: Arizona Public Service Company.

Description: Arizona Public Service Company submits tariff filing per 35: Compliance Filing for Order No. 676-E to be effective 4/1/2011.

Filed Date: 03/10/2011.

Accession Number: 20110310-5094.

Comment Date: 5 p.m. Eastern Time on Thursday, March 31, 2011.

Docket Numbers: ER11-3058-000.

Applicants: New York Independent System Operator, Inc., Niagara Mohawk Power Corporation.

Description: New York Independent System Operator, Inc. submits tariff filing per 35.13(a)(2)(iii): EPC Agreement between Niagara Mohawk and Nine Mile Point to be effective 3/8/2011.

Filed Date: 03/11/2011.

Accession Number: 20110311-5021.

Comment Date: 5 p.m. Eastern Time on Friday, April 1, 2011.

Docket Numbers: ER11-3059-000.

Applicants: ISO New England Inc., New England Power Pool Participants Committee.

Description: ISO New England Inc. submits tariff filing per 35.13(a)(2)(iii): Demand Resource Related Changes to be effective 6/1/2011.

Filed Date: 03/11/2011.

Accession Number: 20110311-5077.

Comment Date: 5 p.m. Eastern Time on Friday, April 1, 2011.

Docket Numbers: ER11-3060-000.

Applicants: Southwest Power Pool, Inc.

Description: Southwest Power Pool, Inc.'s Submission of Notice of Cancellation of Interim Large Generator Interconnection Agreement.

Filed Date: 03/10/2011.

Accession Number: 20110310-5122.

Comment Date: 5 p.m. Eastern Time on Thursday, March 31, 2011.

Docket Numbers: ER11-3061-000.

Applicants: Carolina Power & Light Company.

Description: Request of Carolina & Light Power Company for a Limited Waiver of Market-Based Tariff Restrictions.

Filed Date: 03/10/2011.

Accession Number: 20110310-5123.

Comment Date: 5 p.m. Eastern Time on Thursday, March 31, 2011.

Docket Numbers: ER11-3062-000.

Applicants: ISO New England Inc., New England Power Pool Participants Committee.

Description: ISO New England Inc. submits tariff filing per 35.13(a)(2)(iii): Revisions to Appendix G of Market Rule 1 to be effective 5/11/2011.

Filed Date: 03/11/2011.

Accession Number: 20110311-5109.

Comment Date: 5 p.m. Eastern Time on Friday, April 1, 2011.

Docket Numbers: ER11-3063-000.

Applicants: Delmarva Power & Light Company.

Description: Delmarva Power & Light Company—Notice of Cancellation of Mutual Operating Agreement.

Filed Date: 03/11/2011.

Accession Number: 20110311-5123.

Comment Date: 5 p.m. Eastern Time on Friday, April 1, 2011.

Docket Numbers: ER11-3064-000.

Applicants: PJM Interconnection, L.L.C.

Description: PJM Interconnection, L.L.C. submits tariff filing per 35.13(a)(2)(iii): Trans-Allegheny Interstate Line Co's revisions to Attach H-18A of the PJM Tariff to be effective 6/1/2011.

Filed Date: 03/11/2011.

Accession Number: 20110311-5131.

Comment Date: 5 p.m. Eastern Time on Friday, April 1, 2011.

Docket Numbers: ER11-3065-000.

Applicants: Southwest Power Pool, Inc.

Description: Southwest Power Pool, Inc. submits tariff filing per 35.13(a)(2)(iii): Attachment AD—2011 Amendatory Agreement to be effective 3/1/2011.

Filed Date: 03/11/2011.

Accession Number: 20110311-5133.

Comment Date: 5 p.m. Eastern Time on Friday, April 1, 2011.

Docket Numbers: ER11-3066-000.

Applicants: PacifiCorp.

Description: PacifiCorp submits tariff filing per 35: OATT Revised Attachment Q to be effective 4/1/2011.

Filed Date: 03/11/2011.

Accession Number: 20110311-5148.

Comment Date: 5 p.m. Eastern Time on Friday, April 1, 2011.

Docket Numbers: ER11-3067-000.

Applicants: PacifiCorp.

Description: PacifiCorp submits tariff filing per 35.13(a)(2)(iii): Helper City Morgantown Interconnection Agreement to be effective 2/11/2011.

Filed Date: 03/11/2011.

Accession Number: 20110311-5153.

Comment Date: 5 p.m. Eastern Time on Friday, April 1, 2011.

Take notice that the Commission received the following electric securities filings:

Docket Numbers: ES11-17-000.

Applicants: FirstEnergy Service Company, Monongahela Power Company, The Potomac Edison Company, West Penn Power Company, Trans-Allegheny Interstate Line Company

Description: Amendment of FirstEnergy Service Company, et. al. to application for short-term financing authority for Monongahela Power Company, The Potomac Edison Company, West Penn Power Company, and Trans-Allegheny Interstate Line Company.

Filed Date: 03/11/2011.

Accession Number: 20110311-5160.

Comment Date: 5 p.m. Eastern Time on Monday, March 21, 2011.

Take notice that the Commission received the following qualifying facility filings:

Docket Numbers: QF10-512-000.

Applicants: General Electric Company.

Description: Refund Report of General Electric Company.

Filed Date: 03/10/2011.

Accession Number: 20110310-5080.

Comment Date: 5 p.m. Eastern Time on Thursday, March 31, 2011.

Docket Numbers: QF10-638-000.

Applicants: Wind Energy Prototypes, LLC.

Description: Refund Report of Wind Energy Prototypes, LLC.

Filed Date: 03/10/2011.

Accession Number: 20110310-5081.

Comment Date: 5 p.m. Eastern Time on Thursday, March 31, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please email FERCOnlineSupport@ferc.gov. or call (866) 208-3676 (toll free). For TTY, call (202) 502-8659.

Dated: March 14, 2011.
Nathaniel J. Davis, Sr.,
Deputy Secretary.

[FR Doc. 2011-6767 Filed 3-22-11; 8:45 am]

BILLING CODE 6717-01-P